DEPARTMENT OF ENERGY

Federal Energy Regulatory Commission

Combined Notice of Filings #2

Take notice that the Commission received the following electric rate filings:

Docket Numbers: ER12-1942-000.

Applicants: Midwest Independent Transmission System Operator, Inc.

Description: Midwest Independent Transmission System Operator, Inc. submits response to deficiency letter.

Filed Date: 8/31/12.

Accession Number: 20120831-5326.

Comments Due: 5 p.m. ET 9/21/12.

Docket Numbers: ER12-2068-001; ER10-2460-002; ER10-2461-002; ER12-682-003; ER10-2463-002; ER11-2201-006; ER10-2464-001; ER10-2465-001; ER11-2657-002; ER12-1308-001; ER12-1311-002; ER10-2466-003; ER11-4029-002.

Applicants: Evergreen Wind Power, LLC, Canandaigua Power Partners, LLC, Vermont Wind, LLC, First Wind Energy Marketing, LLC, Milford Wind Corridor Phase II, LLC, Blue Sky East, LLC, Evergreen Wind Power III, LLC, Stetson Holdings, LLC, Erie Wind, LLC, Canandaigua Power Partners II, LLC, Stetson Wind II, LLC, Milford Wind Corridor Phase I, LLC, Palouse Wind, LLC.

Description: Notice of Non-Material Change in Status of Blue Sky East, LLC, et al.

Filed Date: 8/31/12.

Accession Number: 20120831-5333.

Comments Due: 5 p.m. ET 9/21/12.

Docket Numbers: ER12-2573-000.

Applicants: Visage Energy.

Description: Baseline New to be effective 9/4/2012.

Filed Date: 9/4/12.

Accession Number: 20120904-5016.

Comments Due: 5 p.m. ET 9/25/12.

Docket Numbers: ER12-2574-000.

Applicants: PJM Interconnection, L.L.C.

Description: Queue Position #O29—Original Service Agreement No. 3390 to be effective 8/3/2012.

Filed Date: 9/4/12.

Accession Number: 20120904-5025.

Comments Due: 5 p.m. ET 9/25/12.

Docket Numbers: ER12-2575-000.

Applicants: ISO New England Inc., New England Power Pool Participants Committee.

Description: Revisions to ISO New England Financial Assurance Policy to be effective 1/1/2013.

Filed Date: 9/4/12.

Accession Number: 20120904-5125.

Comments Due: 5 p.m. ET 9/25/12.

Docket Numbers: ER12-2576-000.

Applicants: Midwest Independent Transmission System Operator, Inc.

Description: SA 2314 MidAm-Lehigh GFA to be effective 9/5/2012.

Filed Date: 9/4/12.

Accession Number: 20120904-5222.

Comments Due: 5 p.m. ET 9/25/12.

Take notice that the Commission received the following foreign utility company status filings:

Docket Numbers: FC12-8-000; FC12-9-000; FC12-10-000; FC12-11-000; FC12-12-000; FC12-13-000; FC12-14-000; FC12-15-000.

Applicants: Enbridge Wind Power General Partnership, Greenwich Windfarm, LP, Enbridge Renewable Energy Infrastructure Limited Partnership, Project AMBG2 LP, SunBridge Wind Power Project, Talbot Windfarm, LP, Tilbury Solar Project LP, Enbridge Lac-Alfred Wind Project Limited Partnership.

Description: Notice of Self-Certification of Foreign Utility Company Status of Enbridge Wind Power General Partnership, et al.

Filed Date: 9/4/12.

Accession Number: 20120904-5151.

Comments Due: 5 p.m. ET 9/25/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2012.
Nathaniel J. Davis, Sr.,
Deputy Secretary.

[FR Doc. 2012-22680 Filed 9-13-12; 8:45 am]

BILLING CODE 6717-01-P